DEPARTMENT OF ENERGY

Federal Energy Regulatory Commission

[Docket No. RP02-465-001]

CMS Trunkline Gas Company, LLC; Notice of Compliance Filing

November 4, 2002.

Take notice that on October 30, 2002, CMS Trunkline Gas Company, LLC (Trunkline) tendered for filing as part of its FERC Gas Tariff, Second revised volume no. 1, Sub second revised sheet no. 314, to become effective October 1, 2002.

Trunkline states that this filing is being made to comply with the Commission's letter order dated September 30, 2002, in Docket No. RP02-465-000 which requires Trunkline to remove standard 2.3.30 from section 28.6 of the general terms and conditions of its tariff.

Trunkline states that copies of this filing are being served on all jurisdictional customers, interested state regulatory agencies and parties to this proceeding.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Linwood A. Watson, Jr.,
Deputy Secretary.

[FR Doc. 02-28592 Filed 11-8-02; 8:45 am]

BILLING CODE 6717-01-P